DEPARTMENT OF COMMERCE

International Trade Administration

[A-533-809]

Certain Forged Stainless Steel Flanges From India; Final Results of Antidumping Duty Administrative Review

AGENCY: Import Administration, International Trade Administration, Department of Commerce.

ACTION: Notice of Final Results of Antidumping Duty Administrative Review.

SUMMARY: On November 10, 2003, the Department of Commerce (the Department) published in the Federal Register the preliminary results and partial rescission of its administrative review of the antidumping duty order on certain forged stainless steel flanges (flanges) from India (68 FR 63758). The review covers flanges manufactured by Chandan Steel Ltd. (Chandan), Isibars Ltd. (Isibars), and Viraj Forgings Ltd. (Viraj). The period of review (POR) is February 1, 2002 through January 31, 2003. We gave interested parties an opportunity to comment on the preliminary results. We received no comments. We have made no changes from the preliminary results for the final results. Therefore, the final results do not differ from the preliminary results. The final weighted-average dumping margins for the reviewed firms are listed below in the section entitled “Final Results of Review.”

EFFECTIVE DATE: March 5, 2004.

FOR FURTHER INFORMATION CONTACT: Thomas Killiam or Robert James, AD/CVD Enforcement Group III, Import Administration, International Trade Administration, U.S. Department of Commerce, 14th Street and Constitution Avenue, N.W., Washington, DC 20230, telephone: (202) 482-5222 or (202) 482-0649, respectively

.

SUPPLEMENTARY INFORMATION:

Background

We published the preliminary results on November 10, 2003 (68 FR 63758), and received no comments. In the same notice, we rescinded the review with respect to Shree Ganesh Forgings Ltd.

Scope of Review

The products under review are certain forged stainless steel flanges from India, both finished and not finished, generally manufactured to specification ASTM A-182, and made in alloys such as 304, 304L, 316, and 316L. The scope includes five general types of flanges. They are weld neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the HTSUS. Although the HTSUS subheading is provided for convenience and customs purposes, the written description of the merchandise under review is dispositive of whether or not the merchandise is covered by the review.

Final Results of the Review

We made no changes from the preliminary results. For the reasons stated in our preliminary results, we determine that the following percentage weighted-average margins exists for the period February 1, 2002, through January 31, 2003:

Certain Forged Stainless Steel Flanges From India
Producer/manufacturer/exporter | Weighted-average margin (percent)
Chandan | 0
Isibars | 0
Viraj | 0.04 (de minimis)

The Department will determine, and Customs and Border Protection (CBP) shall assess, antidumping duties on all appropriate entries. We have calculated importer-specific duty assessment rates for the merchandise in question by aggregating the dumping margins calculated for all U.S. sales to each importer and dividing this amount by the total quantity of those sales. To determine whether the duty assessment rates were de minimis, in accordance with the requirement set forth in 19 CFR 351.106(c)(2), we calculated importer-specific ad valorem ratios based on export prices. We will direct CBP to assess the resulting assessment rates uniformly on all entries of that particular customer made during the period of review. Pursuant to 19 CFR 351.106(c)(2), we will instruct CBP to liquidate without regard to antidumping duties any entries for which the assessment rate is de minimis. The Department will issue appropriate assessment instructions directly to CBP within 15 days of publication of these final results of review.

The following deposit requirements will be effective upon publication of this notice for all shipments of stainless steel flanges from India entered, or withdrawn from warehouse, for consumption on or after the date of publication, as provided by section 751(a)(1) of the Act: (1) For the companies reviewed, including Viraj, which has a de minimis rate, the cash deposit rates will be zero, (2) for merchandise exported by manufacturers or exporters not covered in this review but covered in a previous segment of this proceeding, the cash deposit rate will continue to be the company-specific rate published in the most recent final results in which that manufacturer or exporter participated; (3) if the exporter is not a firm covered in this review or in any previous segment of this proceeding, but the manufacturer is, the cash deposit rate will be that established for the manufacturer of the merchandise in these final results of review or in the most recent segment of the proceeding in which that manufacturer participated; and (4) if neither the exporter nor the manufacturer is a firm covered in this review or in any previous segment of this proceeding, the cash deposit rate will be 162.14 percent, the all others rate established in the less-than-fair-value investigation. These deposit requirements shall remain in effect until publication of the final results of the next administrative review.

This notice serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

This notice also serves as the only reminder to parties subject to administrative protective order (APO) of their responsibility concerning the disposition of proprietary information disclosed under APO in accordance with 19 CFR 351.305(a)(3). Timely notification of return/destruction of APO materials or conversion to judicial protective order is hereby requested. Failure to comply with the regulations and the terms of an APO is a sanctionable violation.

We are issuing and publishing this determination in accordance with sections 751(a)(1) and 777(i)(1) of the Act, and 19 CFR 351.214.

Dated: February 25, 2004.
James J. Jochum,
Assistant Secretary for Import Administration.

[FR Doc. 04-5004 Filed 3-4-04; 8:45 am]

BILLING CODE 3510-DS-S